DEPARTMENT OF AGRICULTURE

Agricultural Marketing Service

[Docket No. FV02-996-2-Notice]

Peanut Standards Board

AGENCY: Agricultural Marketing Service, USDA.

ACTION: Request for nominations.

SUMMARY: The Farm Security and Rural Investment Act of 2002 (Farm Bill) requires that the Secretary of Agriculture establish a Peanut Standards Board for the purpose of advising the Secretary regarding the establishment of quality and handling standards for domestically produced and imported peanuts. The Department of Agriculture (USDA) seeks nominations of individuals to be considered for selection as Board members. The Board consists of 18 members representing producers and industry representatives who would serve staggered three-year terms of office.

DATES: Written nominations must be received on or before September 3, 2002.

ADDRESSES: Nominations should be sent to Mr. Ronald L. Cioffi, Chief, Marketing Order Administration Branch, Fruit and Vegetable Programs, AMS, USDA, 1400 Independence Avenue, SW., STOP 0237, Washington, DC 20250-0237; Phone: (202) 720-2491; Fax: 202-720-8938.

SUPPLEMENTARY INFORMATION: Section 1308 of the Farm Bill (Public Law 107-171) requires that the Secretary of Agriculture establish a Peanut Standards Board (Board) for the purpose of advising the Secretary regarding the establishment of quality and handling standards for domestically produced and imported peanuts. The Farm Bill requires the Secretary to consult with the Board in advance whenever the Secretary considers establishing or changing quality and handling standards for peanuts.

The Farm Bill provides that the Board consist of 18 members, with three producers and three industry representatives from the States specified in each of the following producing regions: (a) Southeast (Alabama, Georgia, and Florida); (b) Southwest (Texas, Oklahoma, and New Mexico); and (c) Virginia/Carolina (Virginia and North Carolina.) The Farm Bill also provides that during the transition period, the Secretary may designate persons serving as members of the Peanut Administrative Committee (Committee) to serve as members of the Board for the purpose of carrying out the duties of the Board. Members of the Committee have been designated to serve as interim members of the Board. The transition period is the period beginning with the date of enactment of the Farm Bill (May 13, 2002) and ending with the earlier of the date the Secretary appoints the members of the Board or 180 days after enactment of the Farm Bill.

For the initial appointments, the Farm Bill requires that the Secretary shall stagger the terms of the members so that: (a) One producer member and peanut industry member from each peanut producing region services a one-year term; (b) one producer member and peanut industry member from each peanut producing region serves a two-year term; and (c) one producer member and peanut industry member from each peanut producing region serves a three-year term. The appointees will serve staggered terms of office ending June 30, 2003, June 30, 2004, and June 30, 2005, respectively. For the purposes of this request for nominations, the term “peanut industry representatives” includes representatives of the manufacturers, sellers, buying points, marketing associations, marketing cooperatives, and other like entities. The Farm Bill exempts the Board from the requirements of the Federal Advisory Committee Act.

USDA invites those individuals, organizations, and group affiliated with the categories listed above to nominate individuals for membership on the Board for both producer and industry members. Nomination documents should include: the nominee's name, address and phone number; the nominee's qualifications for membership to the Board (e.g., number of years in industry, current position, membership and offices held in industry organizations); and a statement signed by the nominee indicating his/her willingness to serve on the Board. Also, nominees should complete a qualification form which may be obtained from: Jim Wendland or Kenneth G. Johnson, DC Marketing Field Office, Marketing Order Administration Branch, Fruit and Vegetable Programs, AMS, USDA, 4700 River Road, suite 2A04, Unit 155, Riverdale, Maryland 20737; telephone (301) 734-5243, Fax: (301) 734-5275.

Equal opportunity practices will be followed in all appointments to the Board in accordance with USDA policies. To ensure that the Board takes into the needs of the diverse groups within the peanut industry, membership shall include, to the extent practicable, individuals with demonstrated ability to represent minorities, women, persons with disabilities, and limited resource agriculture producers.

Authority: Section 1308 of Public Law 107-171.

Dated: July 29, 2002.
A.J. Yates,
Administrator, Agricultural Marketing Service.

[FR Doc. 02-19507 Filed 8-1-02; 8:45 am]

BILLING CODE 3410-02-M